DEPARTMENT OF COMMERCE

Foreign-Trade Zones Board

[Order No. 1300]

Approval for Expanded Manufacturing Authority (Motor Vehicles), Foreign-Trade Subzone 98A; Mercedes-Benz U.S. International, Inc., Tuscaloosa County, AL

Pursuant to its authority under the Foreign-Trade Zones Act of June 18, 1934, as amended (19 U.S.C. 81a-81u), the Foreign-Trade Zones Board (the Board) adopts the following Order:

Whereas, the City of Birmingham, Alabama, grantee of Foreign-Trade Zone 98, has requested authority on behalf of Mercedes-Benz U.S. International, Inc. (MBUSI), operator of FTZ 98A, at the MBUSI motor vehicle manufacturing plant in Tuscaloosa County, Alabama, to expand the scope of manufacturing authority to include new manufacturing capacity under FTZ procedures (FTZ Doc. 59-2002, filed 12-17-2002);

Whereas, notice inviting public comment was given in the Federal Register (67 FR 79046, 12-27-2002);

Whereas, the Board adopts the findings and recommendations of the examiner's report, and finds that the requirements of the FTZ Act and the Board's regulations are satisfied, and that approval of the application is in the public interest;

Now Therefore, the Board hereby approves the request, subject to the FTZ Act and the Board's regulations, including Section 400.28.

Signed at Washington, DC this 17th day of 2003.
James J. Jochum,
Assistant Secretary of Commerce for Import Administration, Alternate Chairman, Foreign-Trade Zones Board.

[FR Doc. 03-25161 Filed 10-2-03; 8:45 am]

BILLING CODE 3510-DS-P